DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and have been removed from the list of Specially Designated Nationals and Blocked Persons.

DATES: See Supplementary Information section for effective date(s).

FOR FURTHER INFORMATION CONTACT: OFAC: Andrea Gacki, Director, tel.: 202-622-2490; Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On May 27, 2022, OFAC determined that the property and interests in property subject to U.S. jurisdiction of the following persons are unblocked and they have been removed from the SDN List.

Individuals

1. ALVAREZ MONTELONGO, Julio Cesar (a.k.a. ALVAREZ, Julion), Paseo de la Hacienda 443, Fracc. Los Mangos, Mazatlan, Sinaloa, Mexico; Ontario 1102, Col. Providencia, Guadalajara, Jalisco 44630, Mexico; Coras 3644, Col. Monraz, Guadalajara, Jalisco 44670, Mexico; Av. Manuel Acuna 3497, Col. Rinconada Santa Rita, Guadalajara, Jalisco 44690, Mexico; DOB 11 Apr 1983; POB La Concordia, Chiapas, Mexico; citizen Mexico; website www.julionalvarez.net; Gender Male; R.F.C. AAMJ8304112F0 (Mexico); C.U.R.P. AAMJ830411HCSLNL05 (Mexico) (individual) [SDNTK] (Linked To: JCAM EDITORA MUSICAL, S.A. DE C.V.; Linked To: NORYBAN PRODUCTIONS, S.A. DE C.V.; Linked To: TICKET BOLETO, S.A. DE C.V.; Linked To: FLORES DRUG TRAFFICKING ORGANIZATION).

2. CUELLAR HURTADO, Hugo, Av. Artesanos 1498, Colonia Oblatos, Zapopan, Jalisco, Mexico; Calle Paseo de la Pradera 23, Fraccionamiento Royal Country, Zapopan, Jalisco, Mexico; Kr 76 173 45 In 4, Bogota, Colombia; Trv 176 N 56 25, Bogota, Colombia; DOB 18 May 1947; POB Florencia, Caqueta, Colombia; Cedula No. 17622278 (Colombia); C.U.R.P. CUHH470518HNELRG00 (Mexico) (individual) [SDNTK] (Linked To: AGRICOLA Y GANADERA CUEMIR, S.P.R. DE R.I.; Linked To: AGRO Y COMERCIO DE SANTA BARBARA LAGROMER S. EN C.; Linked To: COMPANIA AGRO COMERCIAL CUETA S. EN C.; Linked To: COOPERATIVA AVESTRUZ CUEMIR, S.C. DE R.L. DE C.V.; Linked To: INVERSIONES HUNEL LTDA.; Linked To: CASA COMERCIAL UNI QUINCE COMPRAVENTA).

3. CUELLAR SILVA, Victor Hugo; DOB 18 Oct 1985; POB Bogota, Colombia; Cedula No. 1032359750 (Colombia) (individual) [SDNTK] (Linked To: AGRO Y COMERCIO DE SANTA BARBARA LAGROMER S. EN C.; Linked To: COMPANIA AGRO COMERCIAL CUETA S. EN C.; Linked To: INVERSIONES HUNEL LTDA.; Linked To: HOTEL PARAISO RESORT EN ARRENDAMIENTO; Linked To: PRENDA TODO, S.A. DE C.V.).

4. CUELLAR SILVA, Jenny Johanna, Avenida Mexico 3335, Vallarta San Jorge, Guadalajara, Jalisco 44690, Mexico; Clle 57 N 24 72, Bogota, Colombia; Cometa # 2910, Col. Jardines del Bosque, Guadalajara, Jalisco 44520, Mexico; Prados de los Lirios # 4142, Casa 6, Col. Prados Tepeyac, Zapopan, Jalisco 45050, Mexico; DOB 11 Jul 1980; POB Florencia, Caqueta, Colombia; Cedula No. 52708729 (Colombia) (individual) [SDNTK] (Linked To: AGRO Y COMERCIO DE SANTA BARBARA LAGROMER S. EN C.; Linked To: COMPANIA AGRO COMERCIAL CUETA S. EN C.; Linked To: INVERSIONES HUNEL LTDA.; Linked To: PRENDA TODO, S.A. DE C.V.).

5. MIRAMONTES GUTIERREZ, Ofelia Margarita, Calle Paseo del Ocelote 161, Fraccionamiento Bugambilias, Zapopan, Jalisco, Mexico; DOB 24 Apr 1968; POB Guadalajara, Jalisco, Mexico; C.U.R.P. MIGO680424MJCRTF03 (Mexico) (individual) [SDNTK] (Linked To: AGRICOLA Y GANADERA CUEMIR, S.P.R. DE R.I.; Linked To: COOPERATIVA AVESTRUZ CUEMIR, S.C. DE R.L. DE C.V.).

6. VARGAS NUNEZ, Lucy Amparo (a.k.a. VARGAS DE CUADROS, Lucy Amparo), Kra 3 N 2B-22, Barrio Los Amigos, El Colegio, Cundinamarca, Colombia; DOB 26 Mar 1958; POB San Pedro, Valle, Colombia; Cedula No. 38858512 (Colombia) (individual) [SDNTK] (Linked To: AGRO Y COMERCIO DE SANTA BARBARA LAGROMER S. EN C.; Linked To: COMPANIA AGRO COMERCIAL CUETA S. EN C.; Linked To: INVERSIONES HUNEL LTDA.).

Entities

1. JCAM EDITORA MUSICAL, S.A. DE C.V., Mazatlan, Sinaloa, Mexico; Av. Manuel Acuna 3497, Terrazas Monraz, Guadalajara, Jalisco 44670, Mexico; Folio Mercantil No. 19365 (Sinaloa) (Mexico) [SDNTK].

2. NORYBAN PRODUCTIONS, S.A. DE C.V., Mazatlan, Sinaloa, Mexico; Av. Gutierrez Najera 104 Altos, Centro, Mazatlan, Sinaloa 82000, Mexico; Coras 3644, Guadalajara, Jalisco 44670, Mexico; Calle Manuel Acuna 3497, Col. Santa Rita, Guadalajara, Jalisco 44690, Mexico; Ontario 1102, Col. Providencia, Guadalajara, Jalisco 44630, Mexico; R.F.C. NPR0903058I3 (Mexico); Folio Mercantil No. 18949 (Sinaloa) (Mexico) [SDNTK].

3. TICKET BOLETO, S.A. DE C.V., Guadalajara, Jalisco, Mexico; Folio Mercantil No. 88198 (Jalisco) (Mexico) [SDNTK].

4. AGRICOLA Y GANADERA CUEMIR, S.P.R. DE R.I. (a.k.a. RANCHO LA HERRADURA CUEMIR), Av. Prolongacion Vallarta No. 600, Zona Centro, Tlajomulco de Zuniga, Jalisco C.P. 45640, Mexico; Folio Mercantil No. 17919-1 (Mexico) [SDNTK].

5. AGRO Y COMERCIO DE SANTA BARBARA LAGROMER S. EN C., Cl 57 No. 24-72 Of 102 P 2, Bogota, Colombia; NIT # 800016670-7 (Colombia) [SDNTK].

6. CASA COMERCIAL UNI QUINCE COMPRAVENTA, Av. 15 No. 124-09 LC 102, Bogota, Colombia; Matricula Mercantil No 00666561 (Colombia) [SDNTK].

7. COMPANIA AGRO COMERCIAL CUETA S. EN C., Cl 57 No. 24-72 Local 102, Bogota, Colombia; NIT # 800007394-0 (Colombia) [SDNTK].

8. COOPERATIVA AVESTRUZ CUEMIR, S.C. DE R.L. DE C.V., Av. Prolongacion Vallarta No. 600 A, Zona Centro, Tlajomulco de Zuniga, Jalisco C.P. 45640, Mexico; Folio Mercantil No. 42877-1 (Mexico) [SDNTK].

9. HOTEL PARAISO RESORT EN ARRENDAMIENTO, Calle 3 No. 1-33/17, Rivera, Huila, Colombia; Matricula Mercantil No 0000104026 (Colombia) [SDNTK].

10. INVERSIONES HUNEL LTDA., Cl 57 No. 24-72, Bogota, Colombia; NIT # 800223039-6 (Colombia) [SDNTK].

11. PRENDA TODO, S.A. DE C.V. (a.k.a. CASA DE EMPENO PRENDA TODO), Andador Medrano 2845, Guadalajara Centro, Guadalajara, Jalisco 44100, Mexico; Medrano # 2845, Col. San Andres, Guadalajara, Jalisco C.P. 44410, Mexico; Zacarias Rubio No. 1609, San Miguel de Huentitan El Alto, Guadalajara, Jalisco 44780, Mexico; R.F.C. PTO000504DM5 (Mexico); Folio Mercantil No. 4495-1 (Mexico) [SDNTK].

Dated: May 27, 2022.
Gregory T. Gatjanis,
Associate Director, Office of Global Targeting, Office of Foreign Assets Control, U.S. Department of the Treasury.

[FR Doc. 2022-11847 Filed 6-3-22; 8:45 am]

BILLING CODE P